DEPARTMENT OF COMMERCE

National Oceanic and Atmospheric Administration

RIN 0648-XL38

Western Pacific Regional Fishery Management Council; Public Meeting

AGENCY: National Marine Fisheries Service (NMFS), National Oceanic and Atmospheric Administration (NOAA), Commerce.

ACTION: Notice of public meeting.

SUMMARY: The Eight Regional Fishery Management Councils will convene a meeting of representatives of their respective Scientific and Statistical Committees (SSCs) in Honolulu, HI.

DATES: The meeting will be held on Wednesday, November 12, 2008 through Friday, November 14, 2008 from 8:30 a.m. to 5 p.m. on November 12 and 13 and 8.30 a.m. to 12 noon on November 14. See SUPPLEMENTARY INFORMATION for agenda items.

ADDRESSES: The meeting will be held at the Council Office Conference Room, 1164 Bishop St., Suite 1400, Honolulu, HI, telephone: (808) 522-8220.

FOR FURTHER INFORMATION CONTACT: Kitty M. Simonds, Executive Director, telephone: (808) 522-8220.

SUPPLEMENTARY INFORMATION: The Magnuson Stevens Reauthorization Act (MSRA) requires that each Council maintain and utilize its Scientific and Statistical Committee (SSC) to assist in the development, collection, evaluation, and peer review of information relevant to the development and amendment of fishery management plans (FMPs). In addition, the MSRA mandates that each SSC shall provide its Council ongoing scientific advice for fishery management decisions, including recommendations for acceptable biological catch (ABC), preventing overfishing, maximum sustainable yield, and achieving rebuilding targets, and reports on stock status and health, bycatch, habitat status, social and economic impacts of management measures, and sustainability of fishing practices.

Some Councils have a long history of using their SSCs to provide recommendations on ABC limits and peer review of analytical documents for FMP/regulatory amendments; for other Councils this is a new requirement. Some SSCs also function as the scientific peer review process required by the Information Quality Act (PL 106-554). In addition, a proposed rule on implementing National Standard 1 is forthcoming, and will provide guidance for all SSCs with respect to requirements to establish fishing levels that prevent overfishing.

In 2005, the Managing Our Nations Fisheries II conference advisory panel, SSC, and main conference panel all recommended that national SSC meetings be held, where members from different regions could discuss best practices and seek to identify analytical and research needs. Given the new requirements of MSRA and the pending new guidelines for annual catch limits, the Regional Fishery Management Councils jointly believe that the time is right for a national SSC workshop.

Wednesday, November 12, 2008; 8:30 a.m.

1. Review of Agenda

2. Appointment of Council staff rapporteurs

3. Plan for preparation and review of final report

4. Review MSRA requirements regarding SSCs

5. Overview of 3 NMFS Working Groups

a. Control Rules for fishing level calculations

b. National Standard 2 Guidelines

c. Species vulnerability evaluation

6. Presentations/Reports from each SSC on operating procedures, analytical document review and recommendations, and developing research priorities

Thursday, November 13, 2008; 8:30 a.m.

7. Using Stock Assessments and a Peer Review Process in SSC Determination of Fishing Level Recommendations (i.e. Acceptable Biological Catch)

8. Presentations/Reports from each SSC on setting catch limits including assessment, peer review process, and determination of Overfishing Limits (OFL) and Annual Catch Limits (ACL)

9. Open discussion on catch limits and peer review issues

Friday, November 14, 2008; 8:30 a.m.

10. Discuss best practices relative to SSC peer review process and setting ACLs

11. Wrap-up and closing comments

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305 (c) of the Magnuson-Stevens Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 16, 2008.
Tracey L. Thompson,
Acting Director, Office of Sustainable Fisheries, National Marine Fisheries Service.

[FR Doc. E8-25012 Filed 10-20-08; 8:45 am]

BILLING CODE 3510-22-S